DEPARTMENT OF COMMERCE

National Oceanic and Atmospheric Administration

RIN 0648-XE875

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a meeting, which is open to the public, of its Coastal Pelagic Species (CPS) Subcommittee of the Scientific and Statistical Committee (SSC).

DATES: The meeting will be held from 10 a.m. to 5 p.m. on Tuesday, October 11, 2016.

ADDRESSES: The meeting will be held in the Pacific Conference Room of the NOAA Southwest Fisheries Science Center, 8901 La Jolla Shores Dr., La Jolla, CA 92037-1508.

Council address: Pacific Fishery Management Council, 7700 NE., Ambassador Place, Suite 101, Portland, Oregon 97220.

FOR FURTHER INFORMATION CONTACT: Mr. Kerry Griffin, Staff Officer; telephone: 503-820-2409.

SUPPLEMENTARY INFORMATION:

Agenda

The primary purpose of the meeting is to review a biomass estimate for the central subpopulation of northern anchovy. The SSC CPS subcommittee will conduct the review, with one member each from the CPS Management Team and CPS Advisory Subpanel (CPSAS) serving as advisers. The subcommittee will submit a report to the full SSC, for further review at the November 15-21, 2016, Council meeting in Garden Grove, California. At that meeting, the Council will consider the biomass estimate along with any recommendations of the SSC, other advisory bodies, and public comment; and may consider taking management action.

Special Accommodations

Requests for sign language interpretation or other auxiliary aids should be directed to Mr. Dale Sweetnam, at 858-546-7170, at least ten days prior to the meeting date.

Authority: 16 U.S.C. 1801 et seq.

Dated: September 7, 2016.
Tracey L. Thompson,
Acting Director, Office of Sustainable Fisheries, National Marine Fisheries Service.

[FR Doc. 2016-21820 Filed 9-9-16; 8:45 am]

BILLING CODE 3510-22-P